DEPARTMENT OF TRANSPORTATION

Federal Motor Carrier Safety Administration

[Docket No. FMCSA-2015-0349]

Qualification of Drivers; Exemption Applications; Vision

AGENCY: Federal Motor Carrier Safety Administration (FMCSA), DOT.

ACTION: Notice of denials.

SUMMARY: FMCSA announces its denial of 345 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays.

SUPPLEMENTARY INFORMATION:

Background

Under 49 U.S.C. 31136(e) and 31315, FMCSA may grant an exemption from the Federal vision standard for a renewable 2-year period if it finds “such an exemption would likely achieve a level of safety that is equivalent to or greater than the level that would be achieved absent such an exemption.” The procedures for requesting an exemption are set forth in 49 CFR part 381.

Accordingly, FMCSA evaluated 345 individual exemption requests on their merit and made a determination that these applicants do not satisfy the criteria eligibility or meet the terms and conditions of the Federal exemption program. Each applicant has, prior to this notice, received a letter of final disposition on the exemption request. Those decision letters fully outlined the basis for the denial and constitute final Agency action. The list published in this notice summarizes the Agency's recent denials as required under 49 U.S.C. 31315(b)(4) by periodically publishing names and reasons for denial.

The following 4 applicants did not have sufficient driving experience over the past 3 years under normal highway operating conditions:

Allan V. Jorgensen

Timothy M. O'Malley

James S. Phipps

David J. Varricchione

The following 82 applicants had no experience operating a CMV:

Wesley D. Adkins

Coral Aguirre

Mark J. Alden

Mazin M. J. Alrawe

Eric J. Andersen

Abram J. Apodaca

Antwanne L. Ash

Stanley L. Ayers

Nash Barno

Savanna S. Bednar

Daryl D. Beshirs

Carola Buehler

Phillip A. Carleton

Rogelio Chacon

Patchara Chiochankitmun

Regino J. Cisneros Perez

Christopher W. Cochran

Ronnie P. Cook

Matthew B. Dallachie

Daniel E. Delano

Jack H. Dependahl

Shelia F. Dixon

Lauren A. Dotterweich

Frank Eardley

Jose E. Echegaray Hernandez

Jeanne C. Emmons

Michael C. Gacki, Jr.

Houssein M. Gale

Travis L. Gibbs

William M. Godzisz

Jose A. Gonzalez Morin

Scott R. Graves

Luke J. Harding

David R. Hazen

Mahmoud K. Hiima

Eric M. Holloway

Mark E. Irsik

Edison Joe

Craig A. Johnson

Jennifer L. King

Oleg Kovalev

Mollie O. Krablin

John P. Kuchta

Brian N. LaRose

James R. Lockard

Michael E. Malloy

Jacob D. Miller

Rodney Mitchell

Brian T. Murphy

Steven K. Mynhier, Sr.

Craig A. Nass

Nathan R. Pawloski

Bobby Phongsavanh

Albert L. Prather, Jr.

Ashley D. Pulkka

Joshua E. Richardson

Irfan A. Ridha

Ammon D. Roe

Larry E. Rohloff

Roberto Ruiz

Fred A. Scott, Jr.

Mulmin J. Sellars

Shawn R. Sexton

Joseph L. Smid

Arthur C. Smith

Jermaine E. Smith

Geoffrey K. Snelling

Shane P. Spellman

James L. Stevens

Casey J. Stover

Arnold Taci

Joshua T. Takacs

Shawn J. Tugwell

Tonya M. Turybury

Spooford Whitaker, Jr.

Jason A. Williams

Monique A. Williams

Thomas D. Williams

Carla M. Wright

Vernon R. Yocham

Richard W. Youngerman

Ahmo Zildzevic

The following 54 applicants did not have 3 years of experience driving a CMV on public highways with their vision deficiencies:

Brian D. Beaulieu

Anthony Britton

Edward M. Brooks

Ross A. Busby

Riley M. Crumley, Jr.

Joseph S. Eaglin

Bryan W. Ellis

Richard D. Erwin

Jose J. Garcia

Jesus A. Garza

Jerry B. Gibson, Jr.

Thomas W. Hall

Joshua V. Harrison

Michael J. Haubert

David M. Iagolla

Jacob T. Johnson

Shane E. Johnson

Todd E. Kelley

Timothy W. Kinion

Allen Kready

Robert A. Kugler

Daniel L. Landa

W. Kratz Leatherman

Miguel M. Levario

Leslie Lewis

Christopher N. Mahoney

Raymundo Maldonado

Robert A. Marcum

Kyle E. Mason

Leonard J. Mazur

Richard L. McCance II

Joshua J. McCue

Robert L. McGowan

Jamelle M. Moore

Peter J. Neltner

Glen L. Nichols

Asiarea M. Pattman

Lavern D. Penner

James R. Preston

Elbert J. Price

Thomas W. Reddy

Thomas L. Rodenborn

Ronald B. Shank

Daniel H. Smith

George Smith

Jeffrey Smith

Jimmy D. Storms

Melanie M. Tate

Thomas L. Tomlin

Oleksandr M. Trushyk

Thomas G. Vowell

Norman A. Williams

Craig D. Wilson

Josef A. Wysocki

The following 34 applicants did not have 3 years of recent experience driving a CMV with the vision deficiency:

Vilas R. Adank

Joseph C. Anderson

Michael D. Birch

Wis P. Bordelon

Dennis Boyce, Jr.

Jeffrey Boyles

Larry L. Brownlee

Darren J. Burroughs

Jason D. DeMaster

Robert L. Eldred

Shannon E. Harrison

Jeffrey D. Johnson

Charles D. Jones

Daniel R. Kenning

Peter A. Ludwig

Robert L. McKenzie

Aurelio Medoza

Richard W. Mullenix

Robert S. Notoriano

Michael M. Ousley

David G. Oyer

Quentin R. Palmer

David W. Paradis

Lawrence B. Reyes

Diego R. Rodriguez

Samuel L. Short

Deneen Stilley

Tom L. Stoltz

James E. Stubblefield

Cedric D. Tobias

Dennis R. Trapp

Jamal A. Vaughn

Larry G. Wenger

John M. Zaki

The following 17 applicants did not have sufficient driving experience during the past 3 years under normal highway operating conditions:

Grant D. Bolton

Carl F. Cryer

Wayne E. Egan

Michael C. Farley

Richard Filion

Tim J. Funke

Farhad Gholinejad

Thomas E. Goodnight

Nicholas Martinez

Brandon J. Michalko

Ralph A. Milliman

William Pantoja Julia

Alfred A. Polzine

Douglas M. Potter

Juan C. Ramirez

Michael A. Thompson

William M. Walk

The following 3 applicants were charged with moving violations in conjunction with CMV accidents:

Darrell R. Hammond

David T. Miller

Jacques W. Rainville

The following applicant, Lee R. Boykin, does not have sufficient peripheral vision in the better eye to qualify for an exemption.

The following 3 applicants had their commercial driver's licenses suspended during the previous 3-year period:

Reginald B. Baker

Patrick J. Giles

Joseph C. Lee

The following applicant, Paul E. Lawyer, did not have verifiable proof of CMV experience over the past 3 years under normal highway operating conditions that would serve as an adequate predictor of future safe performance.

The following 3 applicants contributed to an accident(s) while operating a CMV:

David L. Martin

Derrick A. Robinson

Joseph R. Spranger

The following applicant, Daniel L. Morris, did not have an optometrist or ophthalmologist willing to make a statement that they are able to operate a CMV from a vision standpoint.

The following 35 applicants were denied for multiple reasons:

Eric D. Armstrong

Kenneth C. Arnold

Richard D. Bailey

Michael S. Barnhart

Travis K. Bitker

Tony A. Bowhall

Michael W. Brown

Anthony M. Demers

Paul T. Fishburn, Jr.

Thomas C. Fitzpatrick

Maksym R. Fomin

Darrell R. Fortner

Gregory P. Grimes

James D. Grisham

Steven M. Heinsohn

Robert J. Hemstrought

Jacob E. Kuehne

Gary L. Logel

Richard D. McGuire

Tyler J. Nelson

Arnold G. Patchin

Justin G. Rathert

Antonio Reales

Dimitre I. Rebreev

Mark A. Sanders

Glen R. Seipel

Jerry A. Slotten

John P. Smith

Henry L. Stetler

Richard B. Stopel

Jeremy Trager

Charles Walker

Dwayne K. Webb

Bryan F. Williams

Mark Winnicki

The following applicant, Elijah A. Allen, Jr., provided false documentation during the application process.

The following 6 applicants did not have stable vision for the entire 3-year period:

Michael R. DeLille

Jeffrey W. Hawkins

Bethany A. Hayward

William A. Koldys, Jr.

Van C. Pruitt

Dean C. Sump

The following 3 applicants do not meet the vision standard in the better eye:

Joseph Bahr

David L. Denton

Sean R. Frank, Jr.

The following 44 applicants met the current federal vision standards. Exemptions are not required for applicants who meet the current regulations for vision:

Richard Alfau

Francis R. Anaya

Helene E. Armistad

Richard L. Austin

Melvin T. Ayer

Michael J. Baca

Richard A. Bassett

Merle G. Bernhardt

Richard C. Besk

Rodney S. Burnopp

Mauel Cobos

Edward L. Cox

Joshua P. Doucette

Kraig Fisher

Brian R. Fredrickson

Gregg A. Heinrich

Darrell E. Hunter

Brad L. Jeffrey

Randall Kaiser

Bradley A. Kensmoe

Richard D. Lindell

Jeffrey W. Lowe

Nathaniel Lowery

Nicholas Mattia

Lloyd S. McFerron

David R. Nolte

Juan Ogando

Haley J. O'Neal

Cody J. Osland

Robert H. Owen

Jorge Pedroza

Andrew B. Pfeifer

David D. Queckboerner

Garry A. Reynolds

Marvin R. Roetcisoender

Leo C. Royer

John J. Schaeftlein Jr.

Clifford L. Scheel

Joseph R. Sherman

Robert D. Short

Jerome J. Trombly

Leone D. Vargason

Robert Williams

Jack O. Yates

The following 2 applicants held medical cards valid for less than six months:

Abelardo J. Guiterrez

Edward L. Russell

The following 3 applicants drove interstate while restricted to intrastate:

Thomas L. Pelletier

Mickey J. Spaulding

Douglas E. Weeks

The following 34 applicants will not be driving interstate, interstate commerce, or are not required to carry a DOT medical card:

Dwayne P. Arnac

Edward L. Arnold

Glen M. Asquith

Daniel A. Bahm

Edward J. Blaskovich

Philip L. Bradford

Scott Bradford

Richard L. Brandt

Anthony Brown

Lawrence E. Cercle

Maurice R. Davis, Jr.

Jeffery K. Dorlan

Charles J. Ehlert

Brett H. Friederichs

Luciano G. Garcia

Karla D. Holmes

Stephen D. Hunt

Alvin D. Hunter

Thomas M. Kaley, Jr.

Eugene A. Leffelman

Michael A. Mentzer

Robert B. Morris

Alexis O. Paulme

Jeffrey E. Pennington

Kenneth M. Pisano

Richard G. Roberts

Malcolm S. Rutherford

William A. Shaw

Clinton Starkey

James R. Stout

Clinton A. Swartz

Eduardo R. Wagner

Donald E. Wojtaszek

Theodore J. Wuebben

Finally, the following 14 applicants perform transportation for the federal government, state, or any political sub-division of the state.

Glenn C. Allen

Bradford M. Balint

Scott M. Boutwell

Bill J. Brookhart

James J. Cribbs

Gerald M. Garcia

Duane R. Greene

Billy D. Johnson

Darla J. Lloyd

Derek E. Madrigal

Dru V. Olson

Keith A. Smith

John L. Umland

Daniel R. Zimmerman

Issued on: January 21, 2016.
Larry W. Minor,
Associate Administrator for Policy.

[FR Doc. 2016-02367 Filed 2-5-16; 8:45 am]

BILLING CODE 4910-EX-P